FEDERAL TRADE COMMISSION

Sunshine Act Meeting Notice

AGENCY: Federal Trade Commission.

Time and Date: 11 a.m., Friday, June 10, 2005.

Place: Federal Trade Commission Building, Room 532, 600 Pennsylvania Avenue, NW., Washington, DC 20580.

Status: Part of this meeting will be open to the public. The rest of the meeting will be closed to the public.

Matters to be Considered: Portion Open to Public:

(1) Oral Argument in the matter of North Texas Specialty Physicians, Docket 9312.

Portion Closed to the Public:

(2) Executive Session to follow Oral Argument in North Texas Speciality Physicians, Docket 9312.

Contact Person for More Information: Mitch Katz, Office of Public Affairs: (202) 326-2180. Recorded Message: (202) 326-2711.

Donald S. Clark,
Secretary.

[FR Doc. 05-10779 Filed 5-25-05; 8:45 am]

BILLING CODE 6750-01-M